DEPARTMENT OF HEALTH AND HUMAN SERVICES

Administration for Children and Families

Proposed Information Collection Activity; Comment Request

Title: Personal Responsibility Education Program (PREP) Multi-Component Evaluation Extension.

OMB No.: 0970-0398.

Description: The Family and Youth Services Bureau (FYSB) and the Office of Planning, Research, Evaluation (OPRE) in the Administration for Children and Families (ACF) are requesting an extension without change of a currently approved information collection (OMB No. 0970-0398). The purpose of the extension is to complete the ongoing follow-up data collection for the Personal Responsibility Education Program (PREP) Multi-Component Evaluation, which was designed to document how PREP programs are designed and implemented in the field, collect performance measure data for PREP programs, and assess the effectiveness of selected PREP-funded programs.

The PREP Multi-Component Evaluation contains three components: A Design and Implementation Study, a Performance Analysis Study, and an Impact and In-Depth Implementation Study. Data collection related to the Design and Implementation Study is complete; data collection related to the Performance Analysis Study will be complete in late summer 2017. This notice is specific to data collection activities for the Impact and In-Depth Implementation Study, which is being conducted in four sites. The proposed extension is necessary to complete ongoing follow-up data collection. The resulting data will be used in a rigorous program impact analysis to assess the effectiveness of each program in reducing teen sexual activity and associated risk behaviors.

Respondents: Youth participants who agreed to participate in the study upon enrollment in the four impact study sites.

Annual Burden Estimates
Instrument | Total/annual number of respondents | Number of responses per respondents | Average burden hours per response | Total/annual burden hours
Second follow-up survey | 325 | 1 | .75 | 244

Estimated Total/Annual Burden Hours: 244

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 330 C Street SW., Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary Jones,
ACF/OPRE Reports Clearance Officer.

[FR Doc. 2017-16843 Filed 8-9-17; 8:45 am]

BILLING CODE 4184-37-P